DEPARTMENT OF THE INTERIOR

Bureau of Ocean Energy Management, Regulation and Enforcement

[Docket ID No. BOEM-2011-0020]

BOEMRE Information Collection Activity: 1010-0068, Unitization, Extension of a Collection; Comment Request

AGENCY: Bureau of Ocean Energy Management, Regulation and Enforcement (BOEMRE), Interior.

ACTION: Notice of extension of an information collection (1010-0068).

SUMMARY: To comply with the Paperwork Reduction Act of 1995 (PRA), BOEMRE is inviting comments on a collection of information that we will submit to the Office of Management and Budget (OMB) for review and approval. The information collection request (ICR) concerns the paperwork requirements in the regulations that are related to unitization activities on the OCS.

DATES: Submit written comments by July 12, 2011.

FOR FURTHER INFORMATION CONTACT: Cheryl Blundon, Regulations and Standards Branch at (703) 787-1607. You may also contact Cheryl Blundon to obtain a copy, at no cost, of the regulations that require the subject collection of information.

ADDRESSES: You may submit comments by either of the following methods listed below.

• Electronically: go to http://www.regulations.gov. In the entry titled Enter Keyword or ID, enter BOEM-2011-0020 then click search. Follow the instructions to submit public comments and view supporting and related materials available for this collection. BOEMRE will post all comments.

• E-mail: cheryl.blundon@boemre.gov. Mail or hand-carry comments to the Department of the Interior; Bureau of Ocean Energy Management, Regulation and Enforcement, Attention: Cheryl Blundon, 381 Elden Street, MS-4024, Herndon, Virginia 20170-4817. Please reference ICR 1010-0068 in your comment and include your name and return address.

SUPPLEMENTARY INFORMATION: Title: 30 CFR Part 250, Subpart M, Unitization.

OMB Control Number: 1010-0068.

Abstract: The Outer Continental Shelf (OCS) Lands Act, as amended (43 U.S.C. 1331 et seq. and 43 U.S.C. 1801 et seq.), authorizes the Secretary of the Interior (Secretary) to prescribe rules and regulations to administer leasing of the OCS. Such rules and regulations will apply to all operations conducted under a lease. Section 1334(a) specifies that the Secretary “provide for the prevention of waste and conservation of the natural resources of the [O]uter Continental Shelf, and the protection of correlative rights therein” and include provisions for “unitization, pooling, and drilling agreements.”

The Independent Offices Appropriations Act (31 U.S.C. 9701), the Omnibus Appropriations Bill (Pub. L. 104-133, 110 Stat. 1321, April 26, 1996), and OMB Circular A-25, authorize Federal agencies to recover the full cost of services that confer special benefits. Unitization requests for approval are subject to cost recovery, and BOEMRE regulations specify service fees for these requests.

We will protect information from respondents considered proprietary under the Freedom of Information Act (5 U.S.C. 552) and its implementing regulations (43 CFR Part 2) and under regulations at 30 CFR 250.197, “Data and information to be made available to the public or for limited inspection.” No items of a sensitive nature are collected. Responses are mandatory or are required to obtain or retain a benefit. BOEMRE uses the information to determine whether to approve a proposal to enter into an agreement to unitize operations under two or more leases or to approve modifications when circumstances change. The information is necessary to ensure that operations will result in preventing waste, conserving natural resources, and protecting correlative rights, including the Government's interests. We also use information submitted to determine competitiveness of a reservoir or to decide that compelling unitization will achieve these results.

Frequency: On occasion.

Description of Respondents: Potential respondent include Federal OCS oil and gas or sulphur lessees.

Estimated Reporting and Recordkeeping Hour Burden: The currently approved annual reporting burden for this collection is 4,913 hours. The following chart details the individual components and respective hour burden estimates of this ICR. In calculating the burdens, we assumed that respondents perform certain requirements in the normal course of their activities. We consider these to be usual and customary and took that into account in estimating the burden.

Citation 30 CFR 250 subpart M | Reporting requirement | Hour burden: Non-hour cost burden
1301 | Description of requirements. Burden included in the following sections | 0
1301(d), (f)(3), (g)(1), (g)(2),(ii) | Request suspension of production or operations | Burden covered under 1010-0114.
1302(b) | Request preliminary determination on competitive reservoir | 39
1302(b) | Submit concurrence or objection on competitiveness with supporting evidence | 39
1302(c), (d) | Submit joint plan of operations, supplemental plans, or a separate plan if agreement cannot be reached | 39
1303 | Apply for voluntary unitization, including submitting unit agreement or revision, unit operating agreement, initial plan of operation, obtain approval of Regional Supervisor if required, and supporting data; request for variance from model agreement and other related requirements | 169** $11,698 fee
1304(b) | Request compulsory unitization, including submitting unit agreement, unit operating agreement, initial plan of operation, obtain approval of Regional Supervisor if required, and supporting data; serving non-consenting lessees with documents | 161
1303; 1304 | *Submit revisions or modifications to unit agreement, unit operating agreement, plan of operation, change of unit operator, etc | 8 $831 fee
1303; 1304 | *Submit initial, and revisions to, participating area | 48
1304(d) | Request hearing on required unitization | 1
1304(e) | Submit statement at hearing on compulsory unitization | 5
1304(e) | Pay for and submit three copies of verbatim transcript of hearing | 1 $500 fee.
1304(f) | Appeal final order of compulsory unitization | Exempt under 5 CFR 1320(a)(2), (c)
1300-1304 | General departure and alternative compliance requests not specifically covered elsewhere in subpart M regulations | 1
* These requirements are specified in each Unit Agreement.
** Due to ongoing litigation in the Pacific Region, respondents did not submit burden data.

Estimated Reporting and Recordkeeping Non-Hour Cost Burden: We have identified three non-hour cost burdens for this collection. Section 1303 requires fees for a voluntary unitization or unit expansion ($11,698) and a fee for a unitization revision ($831). Respondents are also required to pay for court reporter and transcripts § 250.1304(d), if seeking compulsory unitization ($500). We have not identified any other non-hour cost burdens associated with this collection of information.

Public Disclosure Statement: The PRA (44 U.S.C. 3501, et seq.) provides that an agency may not conduct or sponsor a collection of information unless it displays a currently valid OMB control number. Until OMB approves a collection of information, you are not obligated to respond.

Comments: Before submitting an ICR to OMB, PRA section 3506(c)(2)(A) requires each agency “* * * to provide notice * * * and otherwise consult with members of the public and affected agencies concerning each proposed collection of information * * *”. Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

Agencies must also estimate the non-hour cost burdens to respondents or recordkeepers resulting from the collection of information. Therefore, if you have costs to generate, maintain, and disclose this information, you should comment and provide your total capital and startup cost components or annual operation, maintenance, and purchase of service components. You should describe the methods you use to estimate major cost factors, including system and technology acquisition, expected useful life of capital equipment, discount rate(s), and the period over which you incur costs. Capital and startup costs include, among other items, computers and software you purchase to prepare for collecting information, monitoring, and record storage facilities. You should not include estimates for equipment or services purchased: (i) Before October 1, 1995; (ii) to comply with requirements not associated with the information collection; (iii) for reasons other than to provide information or keep records for the Government; or (iv) as part of customary and usual business or private practices.

We will summarize written responses to this notice and address them in our submission for OMB approval. As a result of your comments, we will make any necessary adjustments to the burden in our submission to OMB.

Public Comment Procedures: Before including your address, phone number, email address, or other personal identifying information in your comment, you should be aware that your entire comment-including your personal identifying information-may be made publicly available at any time. While you can ask us in your comment to withhold your personal identifying information from public review, we cannot guarantee that we will be able to do so.

BOEMRE Information Collection Clearance Officer: Arlene Bajusz (703) 787-1025.

Dated: May 4, 2011.
Doug Slitor,
Acting Chief, Office of Offshore Regulatory Programs.

[FR Doc. 2011-11837 Filed 5-12-11; 8:45 am]

BILLING CODE 4310-MR-P